DEPARTMENT OF ENERGY

Federal Energy Regulatory Commission

[Project No. 2984-042]

S. D. Warren Company; Notice of Supplement to the License Application And Soliciting Comments

Take notice that the following supplement to the license application has been filed with the Commission and is available for public inspection.

a. Type of Filing: Supplement to the licensing application for the Eel Weir Project.

b. Project No.: P-2984-042.

c. Date Filed: June 6, 2011 (The version of the supplement filed on May 26, 2011, was superseded by the revised version filed on June 6, 2011).

d. Applicant: S. D. Warren Company.

e. Location: The existing project is located at the outlet of Sebago Lake on the Presumpscot River, in Cumberland County, Maine. The project does not affect federal lands.

g. Filed Pursuant to: Federal Power Act 16 U.S.C. 791(a)-825(r).

h. Applicant Contact: Nancy J. Skancke, GKRSE, 1500 K Street, NW., Suite 330, Washington, DC 20005; (202) 408-5400.

i. FERC Contact: Tom Dean (202) 502-6041.

j. Deadline for filing comments on the supplement: 30 days from the issuance date of this notice. All reply comments must be filed with the Commission within 45 days from the date of this notice.

All comments and reply comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of the supplement: S. D. Warren (Warren) requests the Commission adopt modifications to the existing Sebago Lake Level Management Plan (LLMP) that would include changing project operation from requiring seasonal target lake water surface elevations to a seasonal flow-based regime. Under the modified LLMP, Warren would first direct flows into the bypassed reach as required by the license, and would then direct flows that are above the required minimum bypassed reach flow into the power canal. Warren also requests confirmation that no further wetland studies at Sebago Lake are necessary, that no shoreline permitting program is needed under a new license, and that no new shallow boat launch near the project facilities is necessary.

l. A copy of the supplement is available for review at the Commission in the Public Reference Room or may be viewed on the Commission's Web site at http://www.ferc.gov using the “eLibrary” link. Enter the docket number excluding the last three digits in the docket number field to access the document. For assistance, contact FERC Online Support.

m. You may also register online at http://www.ferc.gov/docs-filing/esubscription.asp to be notified via e-mail of new filings and issuances related to this or other pending projects. For assistance, contact FERC Online Support

Dated: June 9, 2011.
Kimberly D. Bose,
Secretary.

[FR Doc. 2011-14898 Filed 6-15-11; 8:45 am]

BILLING CODE 6717-01-P